DEPARTMENT OF HEALTH AND HUMAN SERVICES

Food and Drug Administration

[FDA 225-00-2000]

Memorandum of Understanding Between the Food and Drug Administration, U.S. Department of Health and Human Services, and the Food Safety and Inspection Service, U.S. Department of Agriculture, Regarding the Listing or Approval of Food Ingredients and Sources of Radiation Used in the Production of Meat and Poultry Products

AGENCY: Food and Drug Administration, HHS.

ACTION: Notice.

SUMMARY: The Food and Drug Administration (FDA) is providing notice of a memorandum of understanding (MOU) between FDA and the Food Safety and Inspection Service, U.S. Department of Agriculture (FSIS). The purpose of the agreement is to establish the working relationship to be followed by FDA and FSIS in responding to requests for the sanctioning of the use of food ingredients and sources of radiation subject to regulation by FDA and intended for use in the production of meat and meat food products.

DATES: The agreement became effective January 31, 2000.

FOR FURTHER INFORMATION CONTACT: Arletta M. Beloian, Center for Food Safety and Applied Nutrition (HFS-206), Food and Drug Administration, 200 C St. SW., Washington, DC 20204, 202-418-3082.

SUPPLEMENTARY INFORMATION: In accordance with 21 CFR 20.108(c), which states that all written agreements and MOU's between FDA and others shall be published in the Federal Register, the agency is publishing notice of this MOU.

Dated: May 16, 2000.
William K. Hubbard,
Senior Associate Commissioner for Policy, Planning, and Legislation.

The MOU is set forth in its entirety as follows:

BILLING CODE 4160-01-F

[FR Doc. 00-12853 Filed 5-22-00; 8:45 am]

BILLING CODE 4160-01-C